COMMITTEE FOR PURCHASE FROM PEOPLE WHO ARE BLIND OR SEVERELY DISABLED

Procurement List Proposed Additions and Deletions

AGENCY: Committee for Purchase From People Who Are Blind or Severely Disabled.

ACTION: Proposed Additions to and Deletions From the Procurement List.

SUMMARY: The Committee is proposing to add products to the Procurement List that will be furnished by nonprofit agencies employing persons who are blind or have other severe disabilities and to delete products previously furnished by such agencies.

Comments Must Be Received On or Before: 8/23/2010.

ADDRESSES: Committee for Purchase From People Who Are Blind or Severely Disabled, Jefferson Plaza 2, Suite 10800, 1421 Jefferson Davis Highway, Arlington, Virginia 22202-3259.

FOR FURTHER INFORMATION OR TO SUBMIT COMMENTS CONTACT: Barry S. Lineback, Telephone: (703) 603-7740, Fax: (703) 603-0655, or e-mail CMTEFedReg@AbilityOne.gov.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice will be required to procure the products listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List.

Comments on this certification are invited. Commenters should identify the statement(s) underlying the certification on which they are providing additional information.

End of Certification

The following products are proposed for addition to Procurement List for production by the nonprofit agencies listed:

Products

NSN: MR 414—Glove, Latex, Pink.

NPA: New York City Industries for the Blind, Inc., Brooklyn, NY.

Contracting Activity: Military Resale-Defense Commissary Agency, Fort Lee, VA.

Coverage: C-List for the requirement of military commissaries and exchanges as aggregated by the Defense Commissary Agency.

Navy Working Uniform (Blouses and Trousers)—Types II and III and Navy Parkas

NSNs:

8405-00-NIB-0410—Type II Blouse, Men's, Navy Work Uniform X-SMALL X-SHORT

8405-00-NIB-0411—Type II Blouse, Men's, Navy Work Uniform X-SMALL SHORT

8405-00-NIB-0412—Type II Blouse, Men's, Navy Work Uniform X-SMALL Regular

8405-00-NIB-0413—Type II Blouse, Men's, Navy Work Uniform X-SMALL Long

8405-00-NIB-0414—Type II Blouse, Men's, Navy Work Uniform SMALL XX-SHORT

8405-00-NIB-0415—Type II Blouse, Men's, Navy Work Uniform SMALL X-SHORT

8405-00-NIB-0416—Type II Blouse, Men's, Navy Work Uniform SMALL SHORT

8405-00-NIB-0417—Type II Blouse, Men's, Navy Work Uniform SMALL REG

8405-00-NIB-0418—Type II Blouse, Men's, Navy Work Uniform SMALL REG

8405-00-NIB-0419—Type II Blouse, Men's, Navy Work Uniform SMALL X-LONG

8405-00-NIB-0420—Type II Blouse, Men's, Navy Work Uniform MED XX-SHORT

8405-00-NIB-0421—Type II Blouse, Men's, Navy Work Uniform MED X-SHORT

8405-00-NIB-0422—Type II Blouse, Men's, Navy Work Uniform MED SHORT

8405-00-NIB-0423—Type II Blouse, Men's, Navy Work Uniform MED XX-REG

8405-00-NIB-0424—Type II Blouse, Men's, Navy Work Uniform MED LONG

8405-00-NIB-0425—Type II Blouse, Men's, Navy Work Uniform MED X-LONG

8405-00-NIB-0426—Type II Blouse, Men's, Navy Work Uniform MED XX-LONG

8405-00-NIB-0427—Type II Blouse, Men's, Navy Work Uniform LRG X-SHORT

8405-00-NIB-0428—Type II Blouse, Men's, Navy Work Uniform LRG SHORT

8405-00-NIB-0429—Type II Blouse, Men's, Navy Work Uniform LRG REG

8405-00-NIB-0430—Type II Blouse, Men's, Navy Work Uniform LRG LONG

8405-00-NIB-0431—Type II Blouse, Men's, Navy Work Uniform LRG X-LONG

8405-00-NIB-0432—Type II Blouse, Men's, Navy Work Uniform LRG XX-LONG

8405-00-NIB-0433—Type II Blouse, Men's, Navy Work Uniform X-LRG SHORT

8405-00-NIB-0434—Type II Blouse, Men's, Navy Work Uniform X-LRG REG

8405-00-NIB-0435—Type II Blouse, Men's, Navy Work Uniform X-LRG LONG

8405-00-NIB-0436—Type II Blouse, Men's, Navy Work Uniform X-LRG X-LONG

8405-00-NIB-0437—Type II Blouse, Men's, Navy Work Uniform X-LRG XX-LONG

8405-00-NIB-0438—Type II Blouse, Men's, Navy Work Uniform XX-LRG REG

8405-00-NIB-0439—Type II Blouse, Men's, Navy Work Uniform XX-LRG LONG

8405-00-NIB-0440—Type II Blouse, Men's, Navy Work Uniform XX-LRG X-LONG

8405-00-NIB-0441—Type II Blouse, Men's, Navy Work Uniform XX-LRG XX-LONG

8405-00-NIB-0442—Type II Blouse, Women's, Navy Work Uniform 32 X-SHORT

8405-00-NIB-0443—Type II Blouse, Women's, Navy Work Uniform 32 SHORT

8405-00-NIB-0444—Type II Blouse, Women's, Navy Work Uniform 35 X-SHORT

8405-00-NIB-0445—Type II Blouse, Women's, Navy Work Uniform 35 SHORT

8405-00-NIB-0446—Type II Blouse, Women's, Navy Work Uniform 35 REG

8405-00-NIB-0447—Type II Blouse, Women's, Navy Work Uniform 39 X-SHORT

8405-00-NIB-0448—Type II Blouse, Women's, Navy Work Uniform 39 SHORT

8405-00-NIB-0449—Type II Blouse, Women's, Navy Work Uniform 39 REG

8405-00-NIB-0450—Type II Blouse, Women's, Navy Work Uniform 43 REG

8405-00-NIB-0451—Type II Blouse, Women's, Navy Work Uniform 43 SHORT

8405-00-NIB-0452—Type III Blouse, Men's, Navy Work Uniform X-SMALL X-SHORT

8405-00-NIB-0453—Type III Blouse, Men's, Navy Work Uniform X-SMALL SHORT

8405-00-NIB-0454—Type III Blouse, Men's, Navy Work Uniform X-SMALL REG

8405-00-NIB-0455—Type III Blouse, Men's, Navy Work Uniform X-SMALL LONG

8405-00-NIB-0456—Type III Blouse, Men's, Navy Work Uniform SMALL XX-SHORT

8405-00-NIB-0457—Type III Blouse, Men's, Navy Work Uniform SMALL X-SHORT

8405-00-NIB-0458—Type III Blouse, Men's, Navy Work Uniform SMALL SHORT

8405-00-NIB-0459—Type III Blouse, Men's, Navy Work Uniform SMALL REG

8405-00-NIB-0460—Type III Blouse, Men's, Navy Work Uniform SMALL LONG

8405-00-NIB-0461—Type III Blouse, Men's, Navy Work Uniform SMALL X-LONG

8405-00-NIB-0462—Type III Blouse, Men's, Navy Work Uniform MED XX-SHORT

8405-00-NIB-0463—Type III Blouse, Men's, Navy Work Uniform MED X-SHORT

8405-00-NIB-0464—Type III Blouse, Men's, Navy Work Uniform MED SHORT

8405-00-NIB-0465—Type III Blouse, Men's, Navy Work Uniform MED XX-REG

8405-00-NIB-0466—Type III Blouse, Men's, Navy Work Uniform MED LONG

8405-00-NIB-0467—Type III Blouse, Men's, Navy Work Uniform MED X-LONG

8405-00-NIB-0468—Type III Blouse, Men's, Navy Work Uniform MED XX-LONG

8405-00-NIB-0469—Type III Blouse, Men's, Navy Work Uniform LRG X-SHORT

8405-00-NIB-0470—Type III Blouse, Men's, Navy Work Uniform LRG SHORT

8405-00-NIB-0471—Type III Blouse, Men's, Navy Work Uniform LRG REG

8405-00-NIB-0472—Type III Blouse, Men's, Navy Work Uniform LRG LONG

8405-00-NIB-0473—Type III Blouse, Men's, Navy Work Uniform LRG X-LONG

8405-00-NIB-0474—Type III Blouse, Men's, Navy Work Uniform LRG XX-LONG

8405-00-NIB-0475—Type III Blouse, Men's, Navy Work Uniform X-LRG SHORT

8405-00-NIB-0476—Type III Blouse, Men's, Navy Work Uniform X-LRG REG

8405-00-NIB-0477—Type III Blouse, Men's, Navy Work Uniform X-LRG LONG

8405-00-NIB-0478—Type III Blouse, Men's, Navy Work Uniform X-LRG X-LONG

8405-00-NIB-0479—Type III Blouse, Men's, Navy Work Uniform X-LRG XX-LONG

8405-00-NIB-0480—Type III Blouse, Men's, Navy Work Uniform XX-LRG REG

8405-00-NIB-0481—Type III Blouse, Men's, Navy Work Uniform XX-LRG LONG

8405-00-NIB-0482—Type III Blouse, Men's, Navy Work Uniform XX-LRG X-LONG

8405-00-NIB-0483—Type III Blouse, Men's, Navy Work Uniform XX-LRG XX-LONG

8405-00-NIB-0484—Type III Blouse, Women's, Navy Work Uniform 32 X-SHORT

8405-00-NIB-0485—Type III Blouse, Women's, Navy Work Uniform 32 SHORT

8405-00-NIB-0486 Type III Blouse, Women's, Navy Work Uniform 35 X-SHORT

8405-00-NIB-0487 Type III Blouse, Women's, Navy Work Uniform 35 SHORT

8405-00-NIB-0488 Type III Blouse, Women's, Navy Work Uniform 35 REG

8405-00-NIB-0489 Type III Blouse, Women's, Navy Work Uniform 39 X-SHORT

8405-00-NIB-0490 Type III Blouse, Women's, Navy Work Uniform 39 SHORT

8405-00-NIB-0491 Type III Blouse, Women's, Navy Work Uniform 39 REG

8405-00-NIB-0492 Type III Blouse, Women's, Navy Work Uniform 43 REG

8405-00-NIB-0493 Type III Blouse, Women's, Navy Work Uniform 43 SHORT

8405-00-NSH-2100 Type II Trousers, Mens, NWU (X-Small, X-Short)

8405-00-NSH-2101 Type II Trousers, Mens, NWU (X-Small, Short)

8405-00-NSH-2102 Type II Trousers, Mens, NWU (X-Small, Regular)

8405-00-NSH-2103 Type II Trousers, Mens, NWU (X-Small, Long)

8405-00-NSH-2104 Type II Trousers, Mens, NWI (Small, X-Short)

8405-00-NSH-2105 Type II Trousers, Mens, NWU (Small, Short)

8405-00-NSH-2106 Type II Trousers, Mens, NWU (Small, Regular)

8405-00-NSH-2107 Type II Trousers, Mens, NWU (Small, Long)

8405-00-NSH-2108 Type II Trousers, Mens, NWU (Small, X-Long)

8405-00-NSH-2109 Type II Trousers, Mens, NWU (Medium, X-Short)

8405-00-NSH-2110 Type II Trousers, Mens, NWU (Medium, Short)

8405-00-NSH-2111 Type II Trousers, Mens, NWU (Medium, Regular)

8405-00-NSH-2112 Type II Trousers, Mens, NWU (Medium-Long)

8405-00-NSH-2113 Type II Trousers, Mens, NWU (Medium, X-Long)

8405-00-NSH-2114 Type II Trousers, Mens, NWU (Medium, XX-Long)

8405-00-NSH-2115 Type II Trousers, Mens, NWU (Large, Short)

8405-00-NSH-2116 Type II Trousers, Mens, NWU (Large, Regular)

8405-00-NSH-2117 Type II Trousers, Mens, NWU (Large, Long)

8405-00-NSH-2118 Type II Trousers, Mens, NWU (Large, X-Long)

8405-00-NSH-2119 Type II Trousers, Mens, NWU (Large, XX-Long)

8405-00-NSH-2120 Type II Trousers, Mens, NWU (X-Large, Short)

8405-00-NSH-2121 Type II Trousers, Mens, NWU (X-Large, Regular)

8405-00-NSH-2122 Type II Trousers, Mens, NWU (X-Large, Long)

8405-00-NSH-2123 Type II Trousers, Mens, NWU (X-Large, X-Long)

8405-00-NSH-2124 Type II Trousers, Mens, NWU (X-Large, XX-Long)

8405-00-NSH-2125 Type II Trousers, Mens, NWU (XX-Large, Regular)

8405-00-NSH-2126 Type II Trousers, Mens, NWU (XX-Large, Long)

8405-00-NSH-2127 Type II Trousers, Mens, NWU (XX-Large, X-Long)

8405-00-NSH-2128 Type II Trousers, Mens, NWU (XX-Large, XX-Long)

8405-00-NSH-2129 Type III Trousers, Mens, NWU (X-Small, X-Short)

8405-00-NSH-2130 Type III Trousers, Mens, NWU (X-Small, Short)

8405-00-NSH-2131 Type III Trousers, Mens, NWU (X-Small, Short)

8405-00-NSH-2132 Type III Trousers, Mens, NWU (X-Small, Short)

8405-00-NSH-2133 Type III Trousers, Mens, NWI (Small, X-Short)

8405-00-NSH-2134 Type III Trousers, Mens, NWI (Small, X-Short)

8405-00-NSH-2135 Type III Trousers, Mens, NWU (Small, Regular)

8405-00-NSH-2136 Type III Trousers, Mens, NWU (Small, Long)

8405-00-NSH-2137 Type III Trousers, Mens, NWU (Small, X-Long)

8405-00-NSH-2138 Type III Trousers, Mens, NWU (Medium, X-Short)

8405-00-NSH-2139 Type III Trousers, Mens, NWU (Medium, Short)

8405-00-NSH-2140 Type III Trousers, Mens, NWU (Medium, Regular)

8405-00-NSH-2141 Type III Trousers, Mens, NWU (Medium-Long)

8405-00-NSH-2142 Type III Trousers, Mens, NWU (Medium, X-Long)

8405-00-NSH-2143 Type III Trousers, Mens, NWU (Medium, XX-Long)

8405-00-NSH-2144 Type III Trousers, Mens, NWU (Large, Short)

8405-00-NSH-2145 Type III Trousers, Mens, NWU (Large, Regular)

8405-00-NSH-2146 Type III Trousers, Mens, NWU (Large, Long)

8405-00-NSH-2147 Type III Trousers, Mens, NWU (Large, X-Long)

8405-00-NSH-2148 Type III Trousers, Mens, NWU (Large, XX-Long)

8405-00-NSH-2149 Type III Trousers, Mens, NWU (X-Large, Short)

8405-00-NSH-2150 Type III Trousers, Mens, NWU (X-Large, Regular)

8405-00-NSH-2151 Type III Trousers, Mens, NWU (X-Large, Long)

8405-00-NSH-2152 Type III Trousers, Mens, NWU (X-Large, X-Long)

8405-00-NSH-2153 Type III Trousers, Mens, NWU (X-Large, XX-Long)

8405-00-NSH-2154 Type III Trousers, Mens, NWU (XX-Large, Regular)

8405-00-NSH-2155 Type III Trousers, Mens, NWU (XX-Large, Long)

8405-00-NSH-2156 Type III Trousers, Mens, NWU (XX-Large, X-Long)

8405-00-NSH-2157 Type III Trousers, Mens, NWU (XX-Large, XX-Long)

8405-00-NSH-2158 Type II Trousers, Womens, NWU (25 X-Short)

8405-00-NSH-2159 Type II Trousers, Womens, NWU (25 Short)

8405-00-NSH-2160 Type II Trousers, Womens, NWU (29 X-Short)

8405-00-NSH-2161 Type II Trousers, Womens, NWU (29 Short)

8405-00-NSH-2162 Type II Trousers, Womens, NWU (29 Regular)

8405-00-NSH-2163 Type II Trousers, Womens, NWU (33 X-Short)

8405-00-NSH-2164 Type II Trousers, Womens, NWU (33 Short)

8405-00-NSH-2165 Type II Trousers, Womens, NWU (33 Regular)

8405-00-NSH-2166 Type II Trousers, Womens, NWU (37 Short)

8405-00-NSH-2167 Type II Trousers, Womens, NWU (37 Regular)

8405-00-NSH-2168 Type III Trousers, Womens, NWU (25 X-Short)

8405-00-NSH-2169 Type III Trousers, Womens, NWU (25 Short)

8405-00-NSH-2170 Type III Trousers, Womens, NWU (29 X-Short)

8405-00-NSH-2171 Type III Trousers, Womens, NWU (29 Short)

8405-00-NSH-2172 Type III Trousers, Womens, NWU (29 Regular)

8405-00-NSH-2173 Type III Trousers, Womens, NWU (33 X-Short)

8405-00-NSH-2174 Type III Trousers, Womens, NWU (33 Short)

8405-00-NSH-2175 Type III Trousers, Womens, NWU (33 Regular)

8405-00-NSH-2176 Type III Trousers, Womens, NWU (37 Short)

8405-00-NSH-2177 Type III Trousers, Womens, NWU (37 Regular)

8405-00-NSH-2178 Type II Trouser, Working, Uniform Size = Special Measurement

8405-00-NSH-2179 Type III Trouser, Working, Uniform Size = Special Measurement

8415-00-NIB-0880 Parka, Navy, Size Small Regular

8415-00-NIB-0883 Parka, Navy, Size Large Long

8415-00-NIB-0881 Parka, Navy, Size Medium Regular

8415-00-NIB-0884 Parka, Navy, Size XLarge Long

8415-00-NIB-0885 Parka, Navy, Size XLarge Reg

8415-00-NIB-0882 Parka, Navy, Size Large Regular

NPAs: Winston-Salem Industries for the Blind, Winston-Salem, NC

Raleigh Lions Clinic for the Blind, Inc., Raleigh, NC

Blind Industries & Services of Maryland, Baltimore, MD

Group Home Foundation, Inc., Belfast, ME

ReadyOne Industries, Inc., El Paso, TX

Contracting Activity: Dept of the Army, XR W2DF RDECOM ACQ CTR Natick, Natick, MA.

Coverage: C-List for 50% of the requirement of the U.S. Navy, as aggregated by the Department of the Army Research, Development and Engineering Command, Natick, MA.

Note: FPI is considering exercise of its priority for the Navy Working Uniform items being proposed for addition to the Procurement List. Should FPI prioritize the uniform items and not grant the AbilityOne Program a waiver as requested, the proposed addition will be withdrawn.

Deletions

Regulatory Flexibility Act Certification

I certify that the following action will not have a significant impact on a substantial number of small entities. The major factors considered for this certification were:

1. If approved, the action will not result in additional reporting, recordkeeping or other compliance requirements for small entities.

2. If approved, the action may result in authorizing small entities to furnish the products to the Government.

3. There are no known regulatory alternatives which would accomplish the objectives of the Javits-Wagner-O'Day Act (41 U.S.C. 46-48c) in connection with the products proposed for deletion from the Procurement List.

End of Certification

The following products are proposed for deletion from the Procurement List:

Products

Protector, Hospital Bed, Pillow

NSN: 7210-00-958-9118.

NPA: Bosma Industries for the Blind, Inc., Indianapolis, IN.

Contracting Activity: GSA/FAS Southwest Supply Center (QSDAC), Fort Worth, TX.

Mop, Sponge and Refill

NSN: 7920-01-383-7799.

NSN: 7920-01-383-7927.

NPA: The Lighthouse for the Blind, Inc. (Seattle Lighthouse), Seattle, WA.

Contracting Activity: GSA/FAS Southwest Supply Center (QSDAC), Fort Worth, TX.

Barry S. Lineback,
Director, Business Operations.

[FR Doc. 2010-18121 Filed 7-22-10; 8:45 am]

BILLING CODE 6353-01-P